ENVIRONMENTAL PROTECTION AGENCY

[EPA-HQ-OPP-2008-0046; FRL-8361-6]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before June 16, 2008.

ADDRESSES: Submit your comments, identified by docket identification (ID) number EPA-HQ-OPP-2008-0046 and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to EPA-HQ-OPP-2008-0046 the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 7E7258 | EPA-HQ-OPP-2008-0049
PP 7E7337 | EPA-HQ-OPP-2008-0270
PP 8E7314 | EPA-HQ-OPP-2008-0258
PP 8E7324 | EPA-HQ-OPP-2008-0271
PP 8E7340 | EPA-HQ-OPP-2008-0272
PP 1F6299 | EPA-HQ-OPP-2008-0276
PP 7F7200 | EPA-HQ-OPP-2007-0337
PP 7F7263 | EPA-HQ-OPP-2008-0261
PP 7F7274 | EPA-HQ-OPP-2008-0262
PP 8E7340 | EPA-HQ-OPP-2008-0272
PP 8E7315 | EPA-HQ-OPP-2008-0254
PP 5F6945 | EPA-HQ-OPP-2008-0275

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

New Tolerance

1. PP 7E7258. (EPA-HQ-OPP-2008-0049). Interregional Research Project Number 4 (IR-4), 500 College Rd., East, Suite 201W, Princeton, NJ 08540, proposes to establish a tolerance for residues of the fungicide triflumizole, 1-[1-((4-chloro-2-(trifluoromethyl) phenyl)imino)-2 propoxyethyl]-1H-imidazole, and its metabolites containing the 4-chloro-2-trifluoromethylaniline moiety in or on the food commodities leafy greens subgroup 4A, except spinach and cilantro at 35 parts per million (ppm); turnip, greens at 40 ppm; swiss chard at 18 ppm; pineapple at 4.0 ppm; papaya; sapote, black; canistel; sapote, mamey; mango; sapodilla; star apple at 2.5 ppm; and hop, dried cones at 50.0 ppm. The analytical method is suitable for analyzing crops for residues of triflumizole and its aniline containing metabolites at the proposed tolerance levels and has been independently validated. Residue levels of triflumizole are converted to FA-1-1 by acidic and alkaline reflux, followed by distillation. Residues are then extracted and subjected to SPE purification. Detection and quantitation are conducted by gas chromatograph equipped with nitrogen phosphorus detector, electron capture detector or mass spectrometry detection. The limit of quantitation of the method has been determined in the range of 0.01 ppm to 0.05 ppm for the combined residues of triflumizole and FA-1-1. The enforcement methodology has been submitted to the Food and Drug Administration for publication in the Pesticide Analytical Manual, Vol. II (PAM II). Contact: Susan Stanton, (703) 305-5218, stanton.susan@epa.gov.

2. PP 7E7337. (EPA-HQ-OPP-2008-0270). Interregional Research Project No. 4 (IR-4), 500 College Road East, Suite 201W, Princeton, NJ 08540, proposes to establish a tolerance for residues of the fungicide (plant activator), acibenzolar S-methyl in or on the food commodity onion, bulb, subgroup 3-07A at 0.07 ppm. Syngenta Analytical Method AG-671A is a practical and valid method for the determination and confirmation of acibenzolar S-methyl (CGA245704) in raw agricultural commodities (RAC) and processing substrates from the tobacco, leafy (including brassica) and fruiting vegetable crop groups at a limit of quantitation (LOQ) of 0.02 ppm. Based on recoveries of dry bulb onion samples fortified at the lower limit of method validation, the limit of detection and LOQ were calculated as 0.013 and 0.040 ppm, respectively. The method involves extraction, solid phase cleanup of samples with analysis by high performance liquid chromatography (HPLC) with ultraviolet (UV) detection or confirmatory liquid chromatography/mass spectrometry (LC/MS). The validity is demonstrated by the acceptable accuracy and precision obtained on numerous procedural recovery samples (radiovalidation and field trial sample sets), and by the extractability and accountability obtained by the analysis of weathered radioactive substrates using Analytical Method AG-671A. Contact: Susan Stanton, (703) 305-5218, stanton.susan@epa.gov.

3. PP 8E7324. (EPA-HQ-OPP-2008-0271). Interregional Research Project No. 4 (IR-4), 500 College Road East, Suite 201W, Princeton, NJ 08540, proposes to establish a tolerance for residues of the insecticide indoxacarb, (S)-methyl 7-chloro- 2,5-dihydro-2-[[(methoxycarbonyl)[4-(trifluoromethoxy)phenyl] amino]carbonyl] indeno[1,2e] [1,3,4]oxadiazine-4a(3H)-carboxylate, and its R-enantiomer [(R)-methyl 7-chloro-2,5-dihydro-2-[[(methoxycarbonyl)[4-(trifluoromethoxy) phenyl]amino]carbonyl]indeno [1,2-e] [1,3,4] oxadiazine-4a(3H)- carboxylate in a 75:25 mixture (DPX-MP062), respectively, in or on the food commodities Bushberry subgroup 13-07B at 1.5 ppm; beet, garden, roots at 0.3 ppm; and beet, garden, tops at 6.0 ppm. The plant residue enforcement method detects and quantitates indoxacarb in various matrices including sweet corn, lettuce, tomato, broccoli, apple, grape, cottonseed, peanut, and soybean commodity samples by HPLC with UV detection. The limit of quantitation in the method allows monitoring of crops with indoxacarb residues at or above the levels proposed in these tolerances. Contact: Susan Stanton, (703) 305-5218, stanton.susan@epa.gov.

4. PP 8E7314. (EPA-HQ-OPP-2008-0258). Interregional Research Project No. 4 (IR-4), 500 College Road East, Suite 201 W, Princeton, NJ 08540, proposes to establish a tolerance for residues of the fungicide dimethomorph, (E,Z)4-[3-(4-chlorophenyl)-3-(3,4-dimethoxyphenyl)-1-oxo-2-propenyl]-morpholine in or on the food commodities bean, lima at 0.6 ppm; ginseng at 0.85 ppm; grape at 3.5 ppm; grape, raisin at 6.0 ppm; and turnip, greens at 20 ppm. A reliable method for the determination of dimethomorph residues in bean, lima; ginseng; grape; grape, raisin; and turnip, greens exists; this method is the FDA Multi-Residue Method, Protocol D, as published in the Pesticide Analytical Manual I. Contact: Sidney Jackson, (703) 305-7610, jackson.sidney@epa.gov.

5. PP 8E7340. (EPA-HQ-OPP-2008-0272). Interregional Research Project No. 4 (IR-4), 500 College Road East, Suite 201 W, Princeton, NJ 08540, proposes to establish a tolerance for the combined residues of the insecticide spiromesifen, 2-oxo-3-(2,4,6-trimethylphenyl)-1-oxaspiro[4.4]non-3-en-4-yl 3, 3-dimethylbutanoate and its enol metabolite 4-hydroxy-3-(2,4,6-trimethylphenyl)-1-oxaspiro[4.4]non-3-en-2-one, calculated as the parent compound equivalents in or on the food commodities: Corn, sweet, kernel plus cob with husks removed at 0.02 ppm; corn, sweet, forage at 6.0 ppm; corn, sweet, stover at 7.0 ppm; and berry and small fruit, low growing berry, subgroup 13-07G at 2.0 ppm. Adequate analytical methodology using liquid chromatography/mass spectrometry detection is available for enforcement purposes. Contact: Sidney Jackson, (703) 305-7610, jackson.sidney@epa.gov.

6. PP 1F6299. (EPA-HQ-OPP-2008-0276). Bayer CropScience, 2 T.W. Alexander Drive, P.O. Box 12014, Research Triangle Park, NC 27709, proposes to establish a tolerance for residues of the herbicide iodosulfuron-methyl-sodium, methyl 4-iodo-2-[3-(4-methoxy-6-methyl-1,3,5-triazin-2-yl)-ureidosulfonyl]benzoate, sodium salt in or on the food commodities wheat, grain at 0.02 ppm; wheat, forage at 0.06 ppm; wheat, straw at 0.05 ppm; and wheat, hay at 0.05 ppm. An enforcement procedure is available whereby extractable residues of iodosulfuron-methyl-sodium and AE F075736 are removed from crops by blending with acetonitrile. After blending, the extract is filtered, reduced in volume and partitioned with hexane to remove oils. The partially cleaned up extract is evaporated to dryness under reduced pressure; dissolved in dichloromethane and further cleaned-up on a series of solid phase extraction columns, first, silica gel, then Bond Elut(tm) ENV, and finally on polyamide 6S. The extract is again concentrated to dryness and reconstituted in either 70/30 deionized water/acetonitrile for analysis by high performance liquid chromatography/mass spectrometry (HPLC-MS/MS), or in 50/50 deionized water/acetonitrile for analysis by HPLC/Ultraviolet (HPLC/UV). Contact: Hope Johnson, (703) 305-5410, johnson.hope@epa.gov.

7. PP 7F7200. (EPA-HQ-OPP-2007-0337). Bayer CropScience, 2 T.W. Alexander Drive, P.O. Box 12014, Research Triangle Park, NC 27709, proposes to revise tolerances for residues of the insecticide cyfluthrin; cyano(4-fluoro-3-phenoxyphenyl)methyl-3-(2,2-dichloroethenyl)-2,2-dimethyl-cyclopropanecarboxylate in or on the food commodities barley, grain; buckwheat, grain; millet, grain; oats, grain; rye, grain; triticale, grain; and wheat, grain at 0.15 ppm; corn, field, grain; corn, pop, grain; teosinte, grain; and corn, sweet, kernel plus cob with husks removed at 0.05 ppm; sorghum, grain at 3.5 ppm; grain, cereal, forage, group 16 (except rice) at 25.0 ppm; grain, cereal, stover, group 16 (except rice) at 30.0 ppm; grain, cereal, hay, group 16 (except rice) at 6.0 ppm; and grain, cereal, straw, group 16 (except rice) at 7.0 ppm; and beta-cyfluthrin; cyano(4-fluoro-3-phenoxyphenyl)methyl-3-(2,2-dichloroethenyl)-2,2-dimethyl-cyclopropanecarboxylate [mixture comprising the enantiomeric pair (R)-α-cyano-4-fluoro-3-phenoxybenzyl (1S,3S)-3-(2,2-dichlorovinyl)-2,2-dimethylcyclopropanecarboxylate and (S)-α-cyano-4-fluoro-3-phenoxybenzyl (1R,3R)-3-(2,2-dichlorovinyl)-2,2-dimethylcyclopropanecarboxylate with the enantiomeric pair (R)-α-cyano-4-fluoro-3-phenoxybenzyl (1S,3R)-3-(2,2-dichlorovinyl)-2,2-dimethylcyclopropanecarboxylate and (S)-α-cyano-4-fluoro-3-phenoxybenzyl (1R,3S)-3-(2,2-dichlorovinyl)-2,2-dimethylcyclopropanecarboxylate] in or on the food commodities: Alfalfa, forage at 5.0 ppm; alfalfa, hay at 13 ppm; barley, bran at 0.5 ppm; barley, grain at 0.15 ppm; beet, sugar, dried pulp at 1.0 ppm; beet, sugar, roots at 0.10 ppm; brassica, head and stem, subgroup 5A at 2 5 ppm; buckwheat, grain at 0.15 ppm; carrot, roots at 0.20 ppm; cattle, fat at 2.0 ppm; cattle, meat at 0.10 ppm; cattle, meat byproducts at 0.10 ppm; citrus, dried pulp at 0.3 ppm; citrus, oil at 0.3 ppm; corn, field, grain at 0.05 ppm; corn, sweet, kernel plus cob with husks removed at 0.05 ppm; cotton, hulls at 2.0 parts ppm; cotton, refined oil at 2.0 ppm; cotton, seed at 1.0 ppm; egg at 0.01 ppm; fruit, citrus, group 10 at 0.2 ppm; goat, fat at 2.0 ppm; goat, meat at 0.05 ppm; goat, meat byproducts at 0.05 ppm; grain, cereal, forage, fodder and hay, group 16, forage, except rice at 25 ppm; grain, cereal, forage, fodder and hay, group 16, hay except rice at 6.0 ppm; grain, cereal, forage, fodder and hay, group 16, stover, except rice at 30 ppm; grain, cereal, forage, fodder and hay, group 16, straw, except rice at 7.0 ppm; grass, forage, fodder and hay, group 17, forage at 12 ppm; grass, forage, fodder and hay, group 17, hay at 50 ppm; hog, fat at 0.5 ppm; hog, meat at 0.01 ppm; hog, meat byproducts at 0.01 ppm; hop, dried cones at 20.0 ppm; hop, vine at 4.0 ppm; horse, fat at 2.0 ppm; horse, meat at 0.05 ppm; horse, meat byproducts at 0.05 ppm; lettuce, head at 2.0 ppm; lettuce, leaf at 3.0 ppm; milk at 0.2 ppm; milk, fat at 5.0 ppm; millet, grain at 0.15 ppm; mustard greens at 7.0 ppm; oat, bran at 0.5 ppm; oat, grain at 0.15 ppm; pea, dry, seed at 0.15 ppm; pea, southern, succulent at 0.25 ppm; pepper at 0.50 ppm; potato at 0.01 ppm; poultry, fat at 0.01 ppm; poultry, meat at 0.01 ppm; poultry, meat byproducts at 0.01 ppm; radish, roots at 1.0 ppm; rye, bran at 0.5 ppm; rye, grain at 0.15 ppm; sheep, fat at 2.0 ppm; sheep, meat at 0.05 ppm; sheep, meat byproducts at 0.05 ppm; sorghum, grain, at 3.5 ppm; soybean, forage at 8.0 ppm; soybean, hay at 4.0 ppm; soybean, seed at 0.03 ppm; sugarcane, cane at 0.05 ppm; sugarcane, molasses at 0.20 ppm; sunflower, forage at 5.0 ppm; sunflower, seed at 0.02 ppm; teosinte, grain at 0.05 ppm; tomato at 0.20 ppm; tomato, paste at 0.5 ppm; tomato, pomace at 5.0 ppm; triticale, grain at 0.15 ppm; wheat, bran at 0.5 ppm; wheat milled by product, except flour at 5.0 ppm; and wheat, grain at 0.15 ppm. Adequate analytical methodology using gas chromatography/electron capture (GC/EC) detection is available for enforcement purposes. Contact: Olga Odiott, (703) 308-9369, odiott.olga@epa.gov.

8. PP 7F7263. (EPA-HQ-OPP-2008-0261). Syngenta Crop Protection, Inc. P.O. Box 18300; Greensboro, NC 27419-8300, proposes to establish a tolerance for residues of the insecticide emamectin benzoate, 4'-epi-methylamino- 4'-deoxyavermectin B1 benzoate (a mixture of a minimum of 90% 4'-epi-methylamino-4'- deoxyavermectin B1a and a maximum of 10% 4'-epi-methlyamino-4'deoxyavermectin B1b benzoate), and its metabolites 8,9 isomer of the B1a and B1b component of the parent insecticide in or on the food commodities tree nuts (Crop Group 14) and pistachios at 0.02 ppm; and almond hulls at 0.25 ppm. Adequate analytical methods (HPLC-fluorescence methods) are available for enforcement purposes. Contact: Thomas Harris, (703) 308-9423, harris.thomas@epa.gov.

9. PP 7F7274. (EPA-HQ-OPP-2008-0262). Bayer CropScience, P. O. Box 12014, 2 T. W. Alexander Drive, Research Triangle Park, NC 27709, proposes to establish a tolerance for residues of the insecticide spiromesifen, (2-oxo-3-2,4,6-trimethylphenyl)-1-oxaspiro[4.4]non-3-en-4-yl 3,3-dimethylbutanoate and its enol metabolite 4-hydroxy-3-(2,4,6-trimethylphenyl)-1-oxaspiro[4.4]non-3-en-2-one, calculated as parent compound in or on the food commodity corn, field forage at 6.0 ppm. Adequate analytical methodology using LC/MS/MS detection is available for enforcement purposes. Contact: Amer Al-Mudallal, (703) 605-0566, al-mudallal.amer@epa.gov.

Amendment to Existing Tolerance

PP 8E7340. (EPA-HQ-OPP-2008-0272). Interregional Research Project No. 4 (IR-4), 500 College Road East, Suite 201W, Princeton, NJ 08540, proposes to delete the existing tolerance in 40 CFR 180.607 for the combined residues of the insecticide spiromesifen, 2-oxo-3-(2,4,6-trimethylphenyl)-1-oxaspiro[4.4]non-3-en-4-yl 3, 3-dimethylbutanoate and its enol metabolite; 4-hydroxy-3-(2,4,6-trimethylphenyl)-1-oxaspiro[4.4]non-3-en-2-one, calculated as the parent compound equivalents in or on the food commodity strawberry at 2.0 ppm since residues of spiromesifen on strawberry will be covered by the new tolerance proposed for berry and small fruit, low growing berry, subgroup 13-07G elsewhere in this document. Contact: Sidney Jackson, (703) 305-7610, jackson.sidney@epa.gov.

New Exemption from Tolerance

1. PP 8E7315. (EPA-HQ-OPP-2008-0254). Rhodia, Inc. c/o SciReg, Inc., 12733 Director's Loop, Woodbridge, VA 22192, proposes to establish an exemption from the requirement of a tolerance for residues of the oxirane, 2-methyl-, polymer with oxirane, mono [2-[2-(2-butoxymethylethoxy)methylethoxy] methylethyl] ether (CAS Reg. No. 926031-36-9), under 40 CFR 180.960 when used as an inert ingredient in pesticide formulations. Because this petition is a request for an exemption from the requirement of a tolerance, no analytical method is required. Contact: Karen Samek, 703-347-8825, samek.karen@epa.gov

2. PP 5F6945. (EPA-HQ-OPP-2008-0275). Bayer CropScience, 2 T.W. Alexander Drive, P.O. Box 12014, Research Triangle Park, NC 27709, proposes to establish an exemption from the requirement of a tolerance for residues of the herbicide iodosulfuron-methyl-sodium methyl 4-iodo-2-[3-(4-methoxy-6-methyl-1,3,5-triazin-2-yl)-ureidosulfonyl]benzoate, sodium salt, in or on the food commodity soybean. As shown in the confined rotational crop study, no residues of iodosulfuron-methyl-sodium or its degradates are taken up by soybeans planted 7 days after application; thus no residues would be expected in soybeans planted several months after application. As this petition is a request for an exemption from the requirement of a tolerance analytical methods are not required. Contact: Hope Johnson, (703) 305-5410, johnson.hope@epa.gov.

List of Subjects

Environmental protection, Agricultural commodities, Feed additives, Food additives, Pesticides and pests, Reporting and recordkeeping requirements.

Dated: April 16, 2008.
Daniel Kenny,
Acting Director, Registration Division, Office of Pesticide Programs.

[FR Doc. E8-10915 Filed 5-15-08; 8:45 am]

BILLING CODE 6560-50-S